DEPARTMENT OF JUSTICE

Notice of Lodging of Consent Decree Pursuant to the Clean Water Act

In accordance with the Departmental policy, 28 U.S.C. 50.7, notice is hereby given that a proposed Consent Decree in United States of America and State of Louisiana v. City of Mandeville, Louisiana, Civil Action No. 00-366 “R” (5) was lodged on December 12, 2000, with the United States District Court for the Eastern District of Louisiana.

The Consent Decree settles an action brought under sections 309(b) of the Clean Water Act (“CWA”), 33 U.S.C. 1319(b). The Consent Decree requires the City of Mandeville, Louisiana (“Mandeville”) to pay a civil penalty to the United States in the amount of $56,500, requires injunctive relief to bring Mandeville into compliance with the Clean Water Act, and provides for interim limits for the discharge of ammonia-nitrogen, biochemical oxygen demand (“BOD”), and total suspended solids (“TSS”) from Mandeville's public sewage treatment plant.

The Department of Justice will receive, for a period of thirty (30) days from the date of this publication, comments relating to the proposed Consent Decree. Comments should be addressed to the Assistant Attorney General for the Environment and Natural Resources Division, Department of Justice, Washington, DC 20530, and should refer to United States of America and State of Louisiana v. City of Mandeville, Louisiana, (E.D. La.), DOJ Ref. #90-5-1-1-06613.

The proposed Consent Decree may be examined at the office of the United States Attorney, Eastern District of Louisiana, Hale Boggs Federal Building, 501 Magazine Street, Second Floor, New Orleans, LA 70130, the U.S. Environmental Protection Agency, Region VI, 1445 Ross Avenue, Dallas, Texas 75202; and at the Consent Decree Library, 1120 G Street, NW., Third Floor, Washington, DC 20005, (202) 624-0892. A copy of the proposed Consent Decree may be obtained in person or by mail from the Consent Decree Library, P.O. Box 7611, Washington, DC 20044-7611. When requesting a copy please refer to United States of America and State of Louisiana v. City of Mandeville, Louisiana, (E.D. La.), DOJ Ref. #90-5-1-1-06613 enclose a check in the amount of $7.00 (25 cents per page reproduction costs), payable to the “Consent Decree Library.”

Catherine McCabe,
Deputy Chief, Environmental Enforcement Section, Environment and Natural Resources Division.

[FR Doc. 01-924 Filed 1-10-01; 8:45 am]

BILLING CODE 4410-15-M